SMALL BUSINESS ADMINISTRATION

Region III Regulatory Fairness Board; Public Federal Regulatory Enforcement Fairness Hearing

The U.S. Small Business Administration (SBA), Region III Regulatory Fairness Board and the SBA Office of the National Ombudsman will hold a public hearing on Friday, June 24, 2005, starting at 9 a.m. The meeting will be held at the William J. Green Federal Building, Ceremonial Courtroom, located at 76 North 6th Street, Philadelphia, PA 19106. Please contact the office at (215) 580-2701, to receive comments and testimony from small business owners, small government entities, and small non-profit organizations concerning regulatory enforcement and compliance actions taken by Federal agencies.

Anyone wishing to attend or to make a presentation must contact Ana Gallardo in writing or by fax, in order to be put on the agenda. Ana Gallardo, Business Development Specialist, SBA Philadelphia District Office, 900 Market Street, 5th Floor, Philadelphia, PA 19107, phone (215) 580-2707, fax (202) 481-0193, e-mail: ana.gallardo@sba.gov.

For more information, see our Web site at www.sba.gov/ombudsman.
Matthew K. Becker,
Committee Management Officer.

[FR Doc. 05-11295 Filed 6-6-05; 8:45 am]

BILLING CODE 8025-01-P